FEDERAL EMERGENCY MANAGEMENT AGENCY

44 CFR Part 67

[Docket No. FEMA-D-7538]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of section 2(b)(2) of Executive Order 12778.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD) • Elevation in feet (NAVD): Existing | #Depth in feet above ground. *Elevation in feet (NGVD) • Elevation in feet (NAVD): Modified
Kentucky | Harlan (City of), Harlan County | Clover Fork | Approximately 260 feet downstream of the confluence of Martins Fork | *1,179 | *1,180
|  |  | Approximately 375 feet upstream of Main Street/State Route 72 | None | *1,181
|  | Martins Fork | At the confluence with Clover Fork | *1,179 | *1,180
|  |  | Approximate 1,200 feet upstream of State Route 72 | *1,185 | *1,186
|  | Interior Drainage Area No. 1 | At the intersection of Walnut Street and Cumberland Avenue | *1,180 | *1,176
|  | Interior Drainage Area No. 2 | Approximately 150 feet southeast of the intersection of Clover and Walnut Streets along Walnut Street | *1,184 | *1,174
Maps available for inspection at the Harlan City Hall, 218 South Main Street, Harlan, Kentucky.
Send comments to The Honorable Daniel E. Howard, Mayor of the City of Harlan, 218 South Main Street, P.O. Box 783, Harlan, Kentucky 40831-0783.
Maine | Turner (Town), Androscoggin County | Nezinscot River | At confluence with Androscoggin River | None | *274
|  |  | At upstream corporate limits | None | *315
|  | Androscoggin River | At downstream corporate limits | None | *264
|  |  | At upstream corporate limits | None | *281
Maps available for inspection at the Turner Town Office, 11 Turner Center Road, Turner, Maine.
Send comments to Mr. James Caitlin, Turner Town Manager, Town Office, P.O. Box 157, Turner, Maine 04282-0157.
New Jersey | Estell Manor (City), Atlantic County | Tuckahoe River | Approximately 0.7 mile upstream of Cumberland Avenue | None | *56
|  |  | At State Route 49 | None | *22
|  | Great Egg Harbor | At the confluence of Great Egg Harbor River and South River | None | *9
Maps available for inspection at the Estell Manor City Municipal Building, 148 Cumberland Avenue, Estell Manor, New Jersey.
Send comments to The Honorable Gary Buck, Mayor of the City of Estell Manor, P.O. Box 102, 148 Cumberland Avenue, Estell Manor, New Jersey 08319.
New York | Plattsburgh (City), Clinton County | Saranac River | Approximately 200 feet upstream of Delaware and Hudson Railroad | *102 | *103
|  |  | At the upstream of corporate limits | *190 | *189
Maps available for inspection at the Plattsburgh City Building Inspector's Office, 41 City Hall Place, Plattsburgh, New York.
Send comments to The Honorable Daniel Stewart, Mayor of the City of Plattsburgh, 41 City Hall Place, Plattsburgh, New York 12901.
New York | Plattsburgh (Town), Clinton County | Saranac River | Approximately 0.75 mile downstream of Indian Rapids Dam | None | *188
|  |  | Approximately 1.9 mile upstream of Harney Bridge Road | *735 | *736
Maps available for inspection at Plattsburgh Town Hall, 151 Banker Road, Plattsburgh, New York.
Send comments to Mr. Andrew Abdallah, Plattsburgh Town Supervisor, 151 Banker Road, Plattsburgh, New York 12901.
New York | Saranac (Town), Clinton County | Saranac River | Approximately 1,050 feet downstream of Duquette Road | *735 | *736
|  |  | Approximately 400 feet upstream of confluence of North Branch Saranac River | None | *1,111
Maps available for inspection at the Saranac Town Hall, 3662 Route 3, Saranac, New York.
Send comments to Mr. Samuel Tedford, Saranac Town Supervisor, P.O. Box 147, Saranac, New York 12981.
Tennessee | Rockwood (City), Roane County | East Fork Black Creek | At the upstream side of West Wheeler Street | *879 | *880
|  |  | Approximately 380 feet upstream of North Front Avenue | *915 | *912
|  | Black Creek Side Channel | At the confluence with Black Creek | *868 | *866
|  |  | At the divergence from North Fork Black Creek | *875 | *872
|  | Black Creek | Approximately 1,580 feet upstream of U.S. Route 70 | *858 | *866
|  |  | Approximately 220 feet upstream of West Rockwood Street | 877 | *872
|  | Middle Fork Black Creek | Approximately 140 feet downstream of North Chamberlain Avenue | *879 | *878
|  |  | Approximately 2,420 feet upstream of Strang Street | None | *924
Maps available for inspection at the City Hall Building, 110 North Chamberlain Avenue, Rockwood, Tennessee 37854.
Send comments to The Honorable Mike Miller, Mayor of the City of Rockwood, 110 North Chamberlain Avenue, Rockwood, Tennessee 37854.
Wisconsin | Markesan (City), Green Lake County | Grand River | At downstream corporate limits | None | *841
|  |  | Approximately 0.6 mile upstream of the confluence of East Tributary | None | *855
|  | East Tributary | At confluence with Grand River | None | *851
|  |  | Approximately 0.6 mile upstream of John Street | None | *854
|  | West Tributary | At confluence with Grand River | None | *845
|  |  | Approximately 0.5 mile upstream of Margaret Street | None | *871
Maps available for inspection at the Markesan City Hall, 150 South Bridge Street, Markesan, Wisconsin.
Send comments to The Honorable Rich Slate, Mayor of the City of Markesan, 150 South Bridge Street, Markesan, Wisconsin 53946.

(Catalog of Federal Domestic Assistance No. 83.100, “Flood Insurance.”)
Dated: August 30, 2002.
Anthony S. Lowe,
Administrator, Federal Insurance and Mitigation Administration.

[FR Doc. 02-22822 Filed 9-6-02; 8:45 am]

BILLING CODE 6718-04-P